DEPARTMENT OF TRANSPORTATION

Federal Aviation Administration

14 CFR Part 39

[Docket No. 2001-CE-02-AD; Amendment 39-12178; AD 2001-08-01]

RIN 2120-AA64

Airworthiness Directives; JanAero Devices 14D11 and 23D04 Series Fuel Regulator and Shutoff Valves

AGENCY: Federal Aviation Administration, DOT.

ACTION: Final rule; request for comments.

SUMMARY: This amendment adopts a new airworthiness directive (AD) that applies to certain JanAero Devices (JanAero) fuel regulator and shutoff valves used with JanAero combustion heaters that are installed on airplanes. This AD requires you to visually inspect and pressure test for leaks, and, if leaks are found, replace the fuel regulator and shutoff valve used with JanAero combustion heaters. This AD is the result of numerous reports of fuel regulator and shutoff valves leaking fuel. The actions specified by this AD are intended to prevent fuel leakage in airplanes with these combustion heaters with a consequent hazardous fire.

DATES: This AD becomes effective on May 10, 2001.

The Director of the Federal Register approved the incorporation by reference of certain publications listed in the regulation as of May 10, 2001.

The Federal Aviation Administration (FAA) must receive any comments on this rule by May 31, 2001.

ADDRESSES: Send three copies of comments to FAA, Central Region, Office of the Regional Counsel, Attention: Rules Docket No. 2001-CE-02-AD, 901 Locust, Room 506, Kansas City, Missouri 64106.

You may get the service information referenced in this AD from JanAero Devices, P.O. Box 273, Fort Deposit, Alabama 36032; telephone: (334) 227-8306; facsimile: (334) 227-8596. You may read this information at FAA, Central Region, Office of the Regional Counsel, Attention: Rules Docket No. 2001-CE-02-AD, 901 Locust, Room 506, Kansas City, Missouri 64106; or at the Office of the Federal Register, 800 North Capitol Street, NW, suite 700, Washington, DC.

FOR FURTHER INFORMATION CONTACT: Linda M. Haynes, Aerospace Engineer, FAA, Atlanta Aircraft Certification Office, One Crown Center, 1895 Phoenix Boulevard, suite 450, Atlanta, Georgia 30349; telephone: (770) 703-6091; facsimile: (770) 703-6097.

SUPPLEMENTARY INFORMATION:

Discussion

What Events Have Caused This AD

The FAA has received reports of numerous occurrences of JanAero fuel regulator and shutoff valves leaking. These fuel leakages were observed during routine inspections of the airplanes. The manufacturer has determined that the fuel leakages can occur in valves manufactured before November 2000. These leakages are caused by a quality control problem with the manufacture of these JanAero valves.

The affected fuel regulator and shutoff valves are part of the JanAero B1500, B2030, B2500, B3040, B3500, B4050, or B4500 combustion heater configuration.

What Are the Consequences If the Condition Is Not Corrected

This condition, if not corrected, could result in fuel leakage with a consequent hazardous fire.

Is There Service Information That Applies to This Subject

JanAero has issued Service Bulletin No. A-107, dated January 8, 2001. This service bulletin includes procedures for:

—Visually inspecting the fuel regulator and shutoff valve for fuel leakage;

—Doing a pressure test for fuel leakage on the fuel regulator and shutoff valve; and

—Replacing the fuel regulator and shutoff valve, if fuel leakage is found.

The FAA's Determination and an Explanation of the Provisions of This AD

What Has FAA Decided

The FAA has reviewed all available information, including the service information referenced above; and determined that:

—The unsafe condition referenced in this document exists or could develop on airplanes equipped with either a JanAero B1500, B2030, B2500, B3040, B3500, B4050, or B4500 combustion heater;

—Any airplane with one of these combustion heater units should have the actions specified in the above service bulletin incorporated; and

—The FAA should take AD action to correct this unsafe condition.

What Does This AD Require

This AD requires you to accomplish the actions previously specified following JanAero Devices Service Bulletin No. A-107, dated January 8, 2001.

Could the Affected Fuel Regulator and Shutoff Valves Be Installed on Other Manufacturers' Combustion Heaters

It is possible that the affected regulator and shutoff valves are installed on other manufacturers' combustion heaters. However, all of the reports of failed fuel regulator and shutoff valves are on airplanes equipped with a JanAero B-Series combustion heater. The FAA may consider other rulemaking if additional information prompts such action.

Will I Have the Opportunity To Comment Prior to the Issuance of the Rule

Because the unsafe condition described in this document could result in a hazardous fire, FAA finds that notice and opportunity for public prior comment are impracticable. Therefore, good cause exists for making this amendment effective in less than 30 days.

Comments Invited

How Do I Comment on This AD

Although this action is in the form of a final rule and was not preceded by notice and opportunity for public comment, we invite your comments on the rule. You may submit whatever written data, views, or arguments you choose. You need to include the rule's docket number and send three copies of your comments to the address specified under the caption ADDRESSES. We will consider all comments received by the closing date specified above. We may change this rule in light of comments received. Factual information that supports your ideas and suggestions is extremely helpful in evaluating the effectiveness of the AD action and determining whether we need to take additional rulemaking action.

Are There Any Specific Portions of the AD I Should Pay Attention to

The FAA specifically invites comments on the overall regulatory, economic, environmental, and energy aspects of the rule that might suggest a need to modify the rule. You may read all comments we receive before and after the closing date of the rule in the Rules Docket. We will file a report in the Rules Docket that summarizes each FAA contact with the public that concerns the substantive parts of this AD.

We are reviewing the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How Can I Be Sure FAA Receives My Comment

If you want us to acknowledge the receipt of your comments, you must include a self-addressed, stamped postcard. On the postcard, write “Comments to Docket No. 2001-CE-02-AD.” We will date stamp and mail the postcard back to you.

Regulatory Impact

Does This AD Impact Various Entities

These regulations will not have a substantial direct effect on the States, on the relationship between the national Government and the States, or on the distribution of power and responsibilities among the various levels of government. Therefore, FAA has determined that this final rule does not have federalism implications under Executive Order 13132.

Does This AD Involve a Significant Rule or Regulatory Action

The FAA has determined that this regulation is an emergency regulation that must be issued immediately to correct an unsafe condition in aircraft, and is not a significant regulatory action under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket (otherwise, an evaluation is not required). A copy of it, if filed, may be obtained from the Rules Docket.

List of Subjects in 14 CFR Part 39

Air transportation, Aircraft, Aviation safety, Incorporation by Reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

2001-08-01 JanAero Devices:

Amendment 39-12178; Docket No. 2001-CE-02-AD.

(a) What airplanes are affected by this AD? This AD applies to airplanes equipped with JanAero Series 14D11 or 23D04 fuel regulator and shutoff valves installed with the following B-Series combustion heaters.

(1) Affected B-Series combustion heater models: B1500, B2030, B2500, B3040, B3500, B4050, B4500.

(2) The following is a list of airplanes where the B-Series combustion heater could be installed. This is not a comprehensive list and airplanes not on this list that have the heater installed through field approval or other methods are still affected by this AD:

Manufacturer | Airplane model
Beech | 95-B55 Series, 58, 58TC, 58P, 60, A60, and 76.
Canadair | CL-215, CL-215T, and CLT-415.
Cessna | 208, 303, 310F, 310G, 310H, 310I, 310J, 310K, 310L, 310M, 310N, 310O, 310P, 3210C, 320D, 320E, 320F, 337 Series, 340, 340A, 414, 414A, 421, 421A, 421B, and 421C.
Piper | PA-23, PA-30, PA-31 Series, PA-34, and PA-44.

(b) Who must comply with this AD? Anyone who wishes to operate any airplane that is equipped with one of the above referenced JanAero combustion heaters must comply with this AD.

(c) What problem does this AD address? The actions specified by this AD are intended to prevent fuel leakage into the combustion heater, which could result in a hazardous fire.

(d) What must I do to address this problem? To address this problem, unless already done, you must do the following actions:

Action | Compliance time | Procedures
(1) Visually inspect the installed fuel regulator and shutoff valve used with JanAero Devices Combustion Heaters, Models B1500-B4500, for fuel leaks | Within the next 25 hours time-in-service (TIS) after May 10, 2001 (the effective date of this AD) | Do this following INSTALLATION INSPECTION and ALTERNATIVE VISUAL INSPECTION procedures in JanAero Devices Service Bulletin No. A-107, dated January 8, 2001.
(2) Pressure test the fuel regulator and shutoff valve for leakage | Within the next 25 hours time-in-service (TIS) after May 10, 2001 (the effective date of this AD) and after the inspection in paragraph (d)(1) of this AD | Do the following PRESSURE TEST FOR LEAKAGE procedures in JanAero Devices Service Bulletin No. A-107, dated January 8, 2001.
(3) If fuel leaks are found, replace with a new valve with a manufacture date code of 11/00 or later | Before further flight after the inspection in paragraph (d)(1) and the pressure test in paragraph (d)(2) of this AD | Do the following ALTERNATIVE VISUAL INSPECTION procedures in JanAero Devices Service Bulletin No. A-107, dated January 8, 2001.
(4) Do not install any fuel regulator and shutoff valve with a manufacture date code before 11/00 | Not Applicable | Not Applicable.

(e) Can I comply with this AD in any other way? You may use an alternative method of compliance or adjust the compliance time if:

(1) Your alternative method of compliance provides an equivalent level of safety; and

(2) The Manager, Atlanta Aircraft Certification Office approves your alternative. Send your request through an FAA Principal Maintenance Inspector, who may add comments and then send it to the Manager, Atlanta Aircraft Certification Office.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specify actions you propose to address it.

(f) Where can I get information about any already-approved alternative methods of compliance? Contact Linda M. Haynes, Aerospace Engineer, FAA, Atlanta Aircraft Certification Office, One Crown Center, 1895 Phoenix Boulevard, suite 450, Atlanta, Georgia 30349; telephone: (770) 703-6091; facsimile: (770) 703-6097.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done following JanAero Devices Service Bulletin No. A-107, dated January 8, 2001. The Director of the Federal Register approved this incorporation by reference under 5 U.S.C. 552(a) and 1 CFR part 51. You can get copies from JanAero Devices, P.O. Box 273, Fort Deposit, Alabama 36032. You can look at copies at FAA, Central Region, Office of the Regional Counsel, 901 Locust, Room 506, Kansas City, Missouri, or at the Office of the Federal Register, 800 North Capitol Street, NW, suite 700, Washington, DC.

(i) When does this amendment become effective? This amendment becomes effective on May 10, 2001.

Issued in Kansas City, Missouri, on April 5, 2001.
Michael Gallagher,
Manager, Small Airplane Directorate, Aircraft Certification Service.

[FR Doc. 01-9073 Filed 4-16-01; 8:45 am]

BILLING CODE 4910-13-P